DEPARTMENT OF DEFENSE

Office of the Secretary

Meeting of the National Commission on the Structure of the Air Force

AGENCY: Director of Administration and Management, DoD.

ACTION: Notice of Advisory Committee Report Announcement Meetings.

SUMMARY: The Department of Defense is publishing this notice to announce the following Federal advisory committee meetings of the National Commission on the Structure of the Air Force (“the Commission”). These meetings are open to the public.

DATES: Open Report Announcement Meetings: Thursday, January 30, 2014.

ADDRESSES: The first Report Announcement Meeting will be held from 10:00 a.m. to 11:30 a.m. in room SR 236 of the Russell Senate Office Building, located at the intersection of Delaware and C Streets. Registration will begin at 9:30 a.m.

The second Report Announcement Meeting will be held from 1:30 p.m. to 3:00 p.m. in room 2212 of the Rayburn House Office Building at the intersection of Independence Avenue and South Capitol Street. Registration will begin at 1:00 p.m.

Please visit the Commission's Web site to receive up-to-date information about this meeting, including room assignments or delays due to inclement weather: http://afcommission.whs.mil/.

FOR FURTHER INFORMATION CONTACT: Mrs. Marcia Moore, Designated Federal Officer, National Commission on the Structure of the Air Force, 1950 Defense Pentagon, Room 3A874, Washington, DC 20301-1950. Email: marcia.l.moore12.civ@mail.mil. Desk 703-545-9113. Facsimile 703-692-5625.

Media and other persons interested in photographing or taping either of the Report Announcement Meetings are asked to first contact Barry Willey at 703-545-9113.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.150.

Purpose of Meeting: The National Commission on the Structure of the Air Force will release its report to the President of the United States and Congress on January 30, 2014. Two one-hour announcement meetings are being held to distribute the report and offer a brief question and answer period to the report recipients and/or their staffs.

Meeting Accessibility: Pursuant to 5 U.S.C. 552b, as amended, and 41 CFR 102-3.140 through 102-3.165, and the availability of space, the meeting is open to the public. The Russell and Rayburn Buildings are fully handicap accessible and require security screening. Wheelchair access is available from the Delaware Street entrance of the Russell Building and the South Capitol SE. Street entrance of the Rayburn Building. Public parking and subway access are available from Washington Union Station. Visitors are encouraged to visit the Capitol Hill Area Web site at: http://www.aoc.gov/explore-capitol-hill.

Written Comments: Pursuant to 41 CFR 102-3.105(j) and 102-3.140 and section 10(a)(3) of the FACA, the public or interested organizations may submit written comments to the Commission in response to the stated agenda of the open meeting or the Commission's mission. The Designated Federal Officer (DFO) will review all submitted written statements. Written comments should be submitted to Mrs. Marcia Moore, DFO, via facsimile or electronic mail, the preferred modes of submission. Each page of the comment must include the author's name, title or affiliation, address, and daytime phone number. All contact information may be found in the FOR FURTHER INFORMATION CONTACT section.

Registration: Individuals who wish to attend the one or both of the Report Announcement Meetings on January 30, 2014 are strongly encouraged to register by 5:00 p.m. on Tuesday, January 28, 2014 with the Designated Federal Officer, using the electronic mail and facsimile contact information found in the FOR FURTHER INFORMATION CONTACT section. The communication should include the registrant's full name, title, affiliation or employer, email address, and daytime phone number. If applicable, include written comments.

Background

The National Commission on the Structure of the Air Force was established by the National Defense Authorization Act for Fiscal Year 2013 (Pub. L. 112-239). The Department of Defense sponsor for the Commission is the Director of Administration and Management, Office of the Secretary of Defense. The Commission is tasked to conduct a comprehensive study of the structure of the U.S. Air Force, will determine whether, and how, the structure should be modified to best fulfill current and anticipated mission requirements for the U.S. Air Force in a manner consistent with available resources and submit a report, containing a comprehensive study and recommendations, by February 1, 2014 to the President of the United States and the Congressional defense committees. The report will contain a detailed statement of the findings and conclusions of the Commission, together with its recommendations for such legislation and administrative actions it may consider appropriate in light of the results of the study.

Dated: January 9, 2014.
Aaron Siegel,
Alternate OSD Federal Register Liaison Officer, Department of Defense.

[FR Doc. 2014-00497 Filed 1-13-14; 8:45 am]

BILLING CODE 5001-06-P